NATIONAL AERONAUTICS AND SPACE ADMINISTRATION

[NASA Document Number: 24-063; NASA Docket Number: NASA-2024-0011]

Name of Information Collection: Crew Health and Performance Exploration Analog Crew Application

AGENCY: National Aeronautics and Space Administration (NASA).

ACTION: Notice of a new information collection.

SUMMARY: NASA, as part of its continuing effort to reduce paperwork and respondent burden, invites the general public and other Federal agencies to take this opportunity to comment on proposed and/or continuing information collections, as required by the Paperwork Reduction Act of 1995 (PRA).

DATES: Comments are due by November 18, 2024.

ADDRESSES: Written comments and recommendations for this information collection should be sent within 60 days of publication of this notice at http://www.regulations.gov and search for NASA Docket NASA-2024-0011.

FOR FURTHER INFORMATION CONTACT: Requests for additional information or copies of the information collection instrument(s) and instructions should be directed to NASA PRA Clearance Officer, Stayce Hoult, NASA Headquarters, 300 E Street SW, JC0000, Washington, DC 20546, phone 256-714-8575, or email hq-ocio-pra-program@mail.nasa.gov.

SUPPLEMENTARY INFORMATION:

I. Abstract

This collection of information supports the Crew Health and Performance Analog (CHAPEA) with the evaluation and selection of individuals to participate in NASA CHAPEA Candidate Selection. The NASA CHAPEA project is located at the Lyndon B. Johnson Space Center (JSC) in Houston, Texas. The CHAPEA project is responsible for selecting analog crew candidates for one of three Mars realistic simulated analog missions. In evaluating an applicant for the CHAPEA project, it is important that the selection committee have the benefit of qualitative and quantitative information. Including employment status, medical history, and information from the respondent specific to previously related activities or job functions.

This information will be used by the NASA CHAPEA selection committee, during the candidate selection process (approx. 1 year duration), to gain insight into the candidates' work ethic and professionalism as demonstrated in previous related employment activities.

NASA is committed to effectively performing the Agency's communication function in accordance with the Space Act Section 203 (a)(3) to “provide for the widest practicable and appropriate dissemination of information concerning its activities and the results thereof,” and to enhance public understanding of, and participation in, the nation's aeronautical and space program in accordance with the NASA Strategic Plan.

II. Methods of Collection

Electronically.

III. Data

Title: Crew Health and Performance Exploration Analog Crew Application.

OMB Number: 2,700-new.

Type of review: Initial Submission of Information Collection.

Affected Public: Individuals.

Estimated Annual Number of Activities: 2,000.

Estimated Number of Respondents per Activity: 1.

Annual Responses: 2,000.

Estimated Time per Response: 45 minutes.

Estimated Total Annual Burden Hours: 1,500.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Stayce Hoult,
PRA Clearance Officer, National Aeronautics and Space Administration.

[FR Doc. 2024-21148 Filed 9-17-24; 8:45 am]

BILLING CODE 7510-13-P